DEPARTMENT OF AGRICULTURE

Hood/Willamette Resource Advisory Committee (RAC)

AGENCY: Forest Service, USDA Forest Service Action: Action of Meeting.

SUMMARY: The Hood/Willamette Resource Advisory Committee (RAC) will meet on Thursday, May 28, 2009. The meeting is scheduled to begin at 9:30 a.m. and will conclude at approximately 12:30 p.m. The meeting will be held at the Salem Office of the Bureau of Land Management Office; 1717 Fabry Road SE; Salem, Oregon; (503) 375-5646. The tentative agenda includes: (1) Recommendations on 2009 and 2010 Projects; and (2) Public Forum.

The Public Forum is tentatively scheduled to begin at 10 a.m. Time allotted for individual presentations will be limited to 4-5 minutes. Written comments are encouraged, particularly if the material cannot be presented within the time limits for the Public Forum. Written comments may be submitted prior to the May meeting by sending them to Designated Federal Official Donna Short at the address given below.

FOR FURTHER INFORMATION CONTACT: For more information regarding this meeting, contact Designated Federal Official Donna Short; Sweet Home Ranger District; 4431 Highway 20; Sweet Home, Oregon 97386; (541) 367-3540.

Dated: April 15, 2009.
Dallas J. Emch,
Forest Supervisor.

[FR Doc. E9-9326 Filed 4-23-09; 8:45 am]

BILLING CODE 3410-11-M